Title 3—

The President

Proclamation 9483 of September 1, 2016

National Childhood Cancer Awareness Month, 2016

By the President of the United States of America

A Proclamation

More than 10,000 children are diagnosed with cancer each year. Although rare, pediatric cancer is the leading disease-related cause of death among children. As we invest in cutting-edge research and work to advance medical treatments to beat childhood cancer, each of us can help carry our vision of a cancer-free future forward. Each September, we remember those who lost their lives to cancer far too young and honor the courageous children who bring unwavering strength and optimism to their fight against cancer every single day, and we refocus our efforts on striving to cure cancer once and for all.

Cancer affects children of all ages, generally without a known cause. Over the last half-century, as cancer research and treatment has advanced, the outlook for children with cancer has greatly improved. We have witnessed tremendous improvements in overall survival rates, and a larger number of long-term survivors now look forward to longer life expectancies. Unfortunately, many face chronic health challenges or complications after they beat their cancer. As a Nation, we must recognize that there is more we must do to better understand and treat pediatric cancer.

My Administration continues to invest in the critical research we need to defeat this devastating disease. In 2014, I signed the Gabriella Miller Kids First Research Act, which established the 10-Year Pediatric Research Initiative Fund and has already helped divert millions of dollars every year to advancing childhood cancer research. Through our Precision Medicine Initiative—a bold research effort to revolutionize our approach to treating diseases by personalizing treatment based on specific genetic characteristics—we are already making powerful discoveries for cancer patients and looking to transform the ways we treat many types of cancer. And earlier this year, I tasked Vice President Joe Biden with leading a new national effort to fight cancer. The White House Cancer Moonshot Task Force—a collaborative effort to make a decade's worth of progress in preventing, diagnosing, and treating cancer in just 5 years—is working toward an ultimate goal of eliminating cancer as we know it.

To give children with cancer the care they need and reduce the financial burden that falls on their families, we have worked to provide quality, affordable health care to all people. The Affordable Care Act (ACA) has helped millions of Americans access medical care and enabled them to receive regular checkups, which can help detect cancer. Many children's cancer centers participate in clinical trials, which are partly responsible for much of the progress we have made in advancing treatment of childhood cancer; under the ACA, insurers can no longer drop or limit coverage because of participation in one of these trials. The ACA eliminated annual and lifetime limits on insurance coverage, and because the law prevents insurance companies from denying or limiting coverage for pre-existing conditions, children diagnosed with cancer now have a better chance at a healthy life.

During National Childhood Cancer Awareness Month, let us tell the stories of the brave children who battle cancer every day and thank the loved ones, health care professionals, and communities who lift them up. Let us renew our commitment to prevent, treat, and cure childhood cancer, and together ensure that all children can experience the full and healthy upbringing they deserve.

NOW, THEREFORE, I, BARACK OBAMA, President of the United States of America, by virtue of the authority vested in me by the Constitution and the laws of the United States, do hereby proclaim September 2016 as National Childhood Cancer Awareness Month. I encourage all citizens, government agencies, private businesses, non-profit organizations, and other groups to join in activities that will increase awareness and prevention of childhood cancer.

IN WITNESS WHEREOF, I have hereunto set my hand this first day of September, in the year of our Lord two thousand sixteen, and of the Independence of the United States of America the two hundred and forty-first.

[FR Doc. 2016-21816

Filed 9-7-16; 11:15 am]

Billing code 3295-F6-P